SECURITIES AND EXCHANGE COMMISSION

[Release No. IC-28291]

Notice of Applications for Deregistration Under Section 8(f) of the Investment Company Act of 1940

May 30, 2008.

The following is a notice of applications for deregistration under section 8(f) of the Investment Company Act of 1940 for the month of May 2008. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on June 24, 2008, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

FOR FURTHER INFORMATION CONTACT: Diane L. Titus at (202) 551-6810, SEC, Division of Investment Management, Office of Investment Company Regulation, 100 F Street, NE., Washington, DC 20549-4041.

The Provident Riverfront Funds

[File No. 811-6082]

Summary: Applicant seeks an order declaring that it has ceased to be an investment company. On October 12, 2004, applicant transferred its assets to Allegiant Funds (formerly known as Armada Funds), based on net asset value. Expenses of approximately $526,430 incurred in connection with the reorganization were paid by the acquiring fund and Allegiant Asset Management Company (formerly known as National City Investment Management Company) the acquiring fund's investment adviser.

Filing Date: The application was filed on May 9, 2008.

Applicant's Address: 5800 Corporate Dr., Pittsburgh, PA 15237-7010.

Oppenheimer Growth Fund

[File No. 811-2306]

Oppenheimer Enterprise Fund

[File No. 811-7265]

Summary: Each applicant seeks an order declaring that it has ceased to be an investment company. On November 8, 2007 and December 7, 2007, respectively, applicants transferred their assets to Oppenheimer Capital Appreciation Fund, based on net asset value. Expenses of $116,749 and $68,933, respectively, incurred in connection with the reorganizations were paid by each applicant.

Filing Dates: The applications were filed on May 6, 2008 and May 7, 2008, respectively.

Applicants' Address: 6803 S. Tucson Way, Centennial, CO 80112.

X Exchange-Traded Funds, Inc.

[File No. 811-22053]

Summary: Applicant seeks an order declaring that it has ceased to be an investment company. Applicant has never made a public offering of its securities and does not propose to make a public offering or engage in business of any kind.

Filing Dates: The application was filed on April 1, 2008, and amended on May 12, 2008.

Applicant's Address: 420 Lexington Ave., Suite 2550, New York, NY 10170.

Prudential Tax-Free Money Fund, Inc. (DBA Dryden Tax-Free Money Fund)

[File No. 811-2927]

Summary: Applicant seeks an order declaring that it has ceased to be an investment company. On April 7, 2008, applicant made a liquidating distribution to its shareholders, based on net asset value. Expenses of $14,340 incurred in connection with the liquidation were paid by applicant.

Filing Date: The application was filed on April 21, 2008.

Applicant's Address: Gateway Center Three, 100 Mulberry St., Newark, NJ 07102-4077.

RMR Real Estate Securities Fund

[File No. 811-21490]

RMR Healthcare and Real Estate Fund

[File No. 811-21510]

RMR Securities REIT

[File No. 811-21790]

RMR Healthcare Growth and Income Fund

[File No. 811-21585]

RMR Opportunity Fund

[File No. 811-21841]

RMR Preferred Dividend Fund II

[File No. 811-21807]

Summary: Each applicant, a closed-end investment company, seeks an order declaring that it has ceased to be an investment company. The applicants have never made a public offering of their securities and do not propose to make a public offering or engage in business of any kind.

Filing Date: The applications were filed on April 22, 2008.

Applicants' Address: 400 Centre St., Newton, MA 02458.

J.P. Morgan Series Trust

[File No. 811-7795]

Summary: Applicant seeks an order declaring that it has ceased to be an investment company. On February 18, 2005, applicant transferred its assets to JPMorgan Trust I, based on net asset value. Expenses of $850,000 incurred in connection with the reorganization were paid by applicant's investment adviser, J.P. Morgan Investment Management Inc., or its affiliates.

Filing Date: The application was filed on April 28, 2008.

Applicant's Address: 245 Park Ave., New York, NY 10167.

Federated Covered Call Treasury Fund

[File No. 811-21838]

Summary: Applicant, a closed-end investment company, seeks an order declaring that it has ceased to be an investment company. Applicant has never made a public offering of its securities and does not propose to make a public offering or engage in business of any kind.

Filing Date: The application was filed on April 30, 2008.

Applicant's Address: 5800 Corporate Dr., Pittsburgh, PA 15237-7000.

Van Eck Funds II, Inc.

[File No. 811-21046]

Summary: Applicant seeks an order declaring that it has ceased to be an investment company. On December 13, 2007, applicant made a liquidating distribution to its shareholders, based on net asset value. Expenses of $20,000 incurred in connection with the liquidation were paid by applicant.

Filing Dates: The application was filed on April 3, 2008, and amended on April 24, 2008.

Applicant's Address: 99 Park Ave., 8th Floor, New York, NY 10016.

Morgan Stanley Government Income Trust

[File No. 811-5400]

Summary: Applicant, a closed-end investment company, seeks an order declaring that it has ceased to be an investment company. On March 23, 2007, applicant transferred its assets to Morgan Stanley U.S. Government Securities Trust, based on net asset value. Expenses of $217,000 incurred in connection with the reorganization were paid by applicant.

Filing Dates: The application was filed on April 15, 2008, and amended on May 23, 2008.

Applicant's Address: Morgan Stanley Investment Advisors Inc., 522 Fifth Ave., New York, NY 10036.

IndexIQ™ Exchange-Traded Funds, Inc.

[File No. 811-22008]

Summary: Applicant seeks an order declaring that it has ceased to be an investment company. Applicant has never made a public offering of its securities and does not propose to make a public offering or engage in business of any kind.

Filing Dates: The application was filed on February 27, 2008, and amendments were filed on May 20, 2008, and May 21, 2008.

Applicant's Address: 420 Lexington Ave., Suite 2550, New York, NY 10170.

Guerite Funds

[File No. 811-21951]

Summary: Applicant seeks an order declaring that it has ceased to be an investment company. On November 27, 2007, applicant made a liquidating distribution to its shareholders, based on net asset value. Expenses of approximately $4,199 incurred in connection with the liquidation were paid by Guerite Advisors LLC, applicant's investment adviser.

Filing Date: The application was filed on May 20, 2008.

Applicant's Address: Guerite Advisors LLC, 347 Prado Way, Greenville, SC 29607-6512.

Credit Suisse Emerging Markets, Inc.

[File No. 811-8252]

Summary: Applicant seeks an order declaring that it has ceased to be an investment company. On December 29, 2007, applicant made a liquidating distribution to its shareholders, based on net asset value. Expenses of $32,616 incurred in connection with the liquidation were paid by Credit Suisse Asset Management, LLC, applicant's investment adviser. Applicant has retained $4,992 in cash to pay for certain outstanding liquidation expenses.

Filing Date: The application was filed on May 15, 2008.

Applicant's Address: Credit Suisse Asset Management, LLC, Eleven Madison Ave., New York, NY 10010.

Energy Strategies Fund, Inc.

[File No. 811-21783]

Summary: Applicant, a closed-end investment company, seeks an order declaring that it has ceased to be an investment company. Applicant has never made a public offering of its securities and does not propose to make a public offering or engage in business of any kind.

Filing Date: The application was filed on May 16, 2008.

Applicant's Address: BlackRock, Inc., 800 Scudders Mill Rd., Plainsboro, NJ 08536.

For the Commission, by the Division of Investment Management, pursuant to delegated authority.
Florence E. Harmon,
Acting Secretary.

[FR Doc. E8-12595 Filed 6-4-08; 8:45 am]

BILLING CODE 8010-01-P